DEPARTMENT OF HEALTH AND HUMAN SERVICES

Health Resources and Services Administration

Advisory Committee on Organ Transplantation

AGENCY: Health Resources and Services Administration, HHS.

ACTION: Notice of meeting.

SUMMARY: In accordance with section 10(a)(2) of the Federal Advisory Committee Act (Pub. L. 92-463), notice is hereby given of the following meeting of the Advisory Committee on Organ Transplantation (ACOT). The meeting will be open to the public.

DATES: November 22, 2016, from 11:00 a.m. to 4:00 p.m. Eastern Standard Time.

ADDRESSES: The meeting will be held via audio conference call and Adobe Connect Webinar. Webinar information can be found on the Web site at: http://www.acotmeetings.net/.

FOR FURTHER INFORMATION CONTACT: Robert Walsh, Executive Secretary, Division of Transplantation, Healthcare Systems Bureau, Health Resources and Services Administration, 5600 Fishers Lane, Room 8W60, Rockville, MD 20857; telephone (301) 443-6839; rwalsh@hrsa.gov.

SUPPLEMENTARY INFORMATION: Under the authority of 42 U.S.C. Section 217a, Section 222 of the Public Health Service Act, as amended, and 42 CFR 121.12, ACOT is charged with advising the Secretary, acting through the Administrator, Health Resources and Services Administration (HRSA), on all aspects of organ donation, procurement, allocation, and transplantation, and on such other matters that the Secretary determines.

Agenda: The Committee will hear presentations on topics including public reporting of transplant center outcomes data, updates on activities of the Organ Procurement and Transplantation Network (OPTN), including the development of an OPTN Collaborative Innovation and Improvement Network (COIIN) project to assess effective practices for utilization kidneys at high risk of discard while maintaining quality outcome measures, and a report on recent efforts by the Centers for Medicare & Medicaid Services to identify innovative approaches to care for End Stage Renal Disease patients. All public comments will be included in the record of the ACOT meeting. Meeting summary notes will be posted on the Department's organ donation Web site at http://organdonor.gov/about-dot/acot.html#meetings.

The draft meeting agenda will be posted on http://www.acotmeetings.net/. Those participating at this meeting should register by visiting http://www.acotmeetings.net/. The deadline to register for this meeting is Monday, November 21, 2016. For all logistical questions and concerns, please contact Susie Gingrich, Leonard Resource Group, at (202) 289-8322 or send an email to sgringrich@lrginc.com.

Participants can join this meeting via teleconference by:

1. (Audio Portion) Calling the Conference Phone Number (1-800-832-0736) and providing the Participant Passcode (1337210); and

2. (Visual Portion) Connecting to the ACOT Adobe Connect Pro Meeting using the following URL https://lrg.adobeconnect.com/acot/ and entering as GUEST: (copy and paste the link into your browser if it does not work directly, and enter as a guest).

Participants should plan to call and connect 15 minutes prior to the meeting for logistics to be set up. If you have never attended an Adobe Connect meeting, please test your connection using the following URL: http://www.adobe.com/go/meeting_test. In order to obtain a quick overview, go to the following URL: http://www.adobe.com/go/connectpro_overview. Call (202) 289-8322 or email Susie Gingrich at sgringrich@lrginc.com if you are having trouble connecting to the meeting site.

Public Comment: It is preferred that persons interested in providing an oral presentation email a written request, along with a copy of their presentation, to Robert Walsh, Executive Secretary, Division of Transplantation, Healthcare Systems Bureau, Health Resources and Services Administration, at rwalsh@hrsa.gov. Requests should contain the name, address, telephone number, email address, and any business or professional affiliation of the person desiring to make an oral presentation. Groups having similar interests are encouraged to combine their comments and present them through a single representative.

The allocation of time may be adjusted to accommodate the level of expressed interest. Persons who do not file an advance request for a presentation, but desire to make an oral statement, may request it during the public comment period. Public participation and ability to comment will be limited as time permits.

Jason E. Bennett,
Director, Division of the Executive Secretariat.

[FR Doc. 2016-25855 Filed 10-25-16; 8:45 am]

BILLING CODE 4165-15-P